DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Times and Dates:

8:30 a.m.-5:15 p.m., August 20, 2012

8:30 a.m.-4:30 p.m., August 21, 2012

Place: Hilton Garden Inn Pittsburgh/Southpointe, 1000 Corporate Drive, Canonsburg, Pennsylvania 15317. Telephone: (724) 743-5000, Fax: (724) 743-5010.

Status: Open to the public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: The meeting will focus on engineering noise controls, reducing coal dust exposures, reducing injuries through improved illumination, demographics survey of the mining industry, implementation of the National Academy of Science's recommendations, oxygen supply partnership, safety culture, occupational health and safety management systems, preventing coal dust explosions, and reducing silica exposures.

Agenda items are subject to change as priorities dictate.

Contact Person for More Information: Jeffery L. Kohler, Ph.D., Designated Federal Officer, MSHRAC, NIOSH, CDC, 626 Cochrans Mill Road, Mailstop P05, Pittsburgh, Pennsylvania 15236, telephone (412) 386-5301, fax (412) 386-5300.

The Director, Management Analysis and Services Office, has been delegated the authority to sign Federal Register Notices pertaining to announcements of meetings and other committee management activities, for both the Centers for Disease Control and Prevention and the Agency for Toxic Substances and Disease Registry.

Dated: July 2, 2012.
Elaine L. Baker,
Director, Management Analysis and Services Office, Centers for Disease Control and Prevention.

[FR Doc. 2012-16776 Filed 7-9-12; 8:45 am]

BILLING CODE 4163-18-P